DEPARTMENT OF HOUSING AND URBAN DEVELOPMENT

[Docket No. 5415-FA-21]

Announcement of Funding Awards Capital Fund Education and Training Community Facilities (CFCF) Program Fiscal Year 2010

AGENCY: Office of Public and Indian Housing, HUD.

ACTION: Announcement of funding awards.

SUMMARY: In accordance with Section 102(a)(4)(C) of the Department of Housing and Urban Development Reform Act of 1989, this announcement notifies the public of funding decisions made by the Department in a competition for funding under the Fiscal Year 2010 (FY2010) Notice of Funding Availability (NOFA) for the Capital Fund Education and Training Community Facilities (CFCF) Program. This announcement contains the consolidated names and addresses of this year's award recipients under the CFCF program.

FOR FURTHER INFORMATION CONTACT: For questions concerning the CFCF Program awards, contact Jeffrey Riddel, Director, Office of Capital Improvements, 451 7th Street, SW., Room 4130, Washington, DC 20410, telephone number 202-402-7378. Hearing or speech-impaired individuals may access this number via TTY by calling the toll-free Federal Relay Service at (800) 877-8339.

SUPPLEMENTARY INFORMATION: The CFCF program provides grants to Public Housing Agencies (PHAs) to develop facilities to provide early childhood education adult education and/or job training programs for public housing residents. More specifically, in accordance with Section 9 of the United States Housing Act of 1937 (42 U.S.C. 1437g) (1937 Act), and the Department of Housing and Urban Development (HUD) Fiscal Year 2010 Appropriations Act (Pub. L. 111-117), approved December 16, 2009), the CFCF program provides grants to PHAs to (1) Construct new community facilities; (2) purchase or acquire facilities; or (3) rehabilitate existing facilities to be used as education and training community facilities by PHA residents. The facilities are for the predominant use of PHA residents; however, non-public housing residents may participate.

The FY2010 awards announced in this Notice were selected for funding in a competition posted on HUD's Web site on October 8, 2010. Applications were scored and selected for funding based on the selection criteria in that NOFA, which made approximately $35 million available for distribution.

In accordance with Section 102 (a)(4)(C) of the Department of Housing and Urban Development Reform Act of 1989 (103 Stat. 1987, 42 U.S.C. 3545), the Department is publishing the names, addresses, and amounts of the 12 awards made under the competition in Appendix A to this notice.

Dated: September 21, 2011.
Deborah Hernandez,
General Deputy Assistant Secretary for Public and Indian Housing.

Appendix A

List of Capital Fund Education and Training Community Facilities (CFCF) Program NOFA Grantees for Fiscal Year 2010
Name/address of applicant | Amount funded | Activity funded | Project description
Boston Housing Authority, 52 Chauncy Street, Boston, MA 02111-2325 | $5,000,000 | Construction of a New Facility | Development of a facility at which the PHA will provide adult education early childhood education and job training.
St. Louis Housing Authority, 3520 Page Boulevard, St. Louis, MO 63106-1417 | 5,000,000 | Construction of a New Facility | Development of a facility at which the PHA will provide early childhood education.
Helena Housing Authority, 812 Abbey Street, Helena, MT 59601-7924 | 576,479 | Construction of a New Facility | Development of a facility at which the PHA will provide early childhood education and job training.
Housing Authority of the City of Asheville, P.O. Box 1898, 165 S French Broad Avenue, Asheville, NC 28802-1898 | 3,997,348 | Rehabilitation of a Building | Development of a facility at which the PHA will provide adult education and job training.
Housing Authority of the City of Camden, 2021 Watson Street, 2nd Floor, Camden, NJ 08105-1866 | 2,230,168 | Construction of a New Facility | Development of a facility at which the PHA will provide adult education early childhood education and job training.
Albany Housing Authority, 200 South Pearl Street, Albany, NY 12202-1834 | 4,983,822 | Construction of a New Facility | Development of a facility at which the PHA will provide adult education early childhood education and job training.
Akron Metropolitan Housing Authority, 100 West Cedar Street, Akron, OH 44307-2569 | 4,002,147 | Construction of a New Facility | Development of a facility at which the PHA will provide adult education early childhood education and job training.
Housing Authority of the City of Austin, P.O. Box 6159, Austin, TX 78762-6159 | 1,745,550 | Construction of a New Facility | Development of a facility at which the PHA will provide adult education and job training.
Housing Authority of the City of Seattle, 120 6th Avenue North, Seattle, WA 98109-5002 | 3,109,271 | Rehabilitation of a Building | Development of a facility at which the PHA will provide adult education early childhood education and job training.
King County Housing Authority, 600 Andover Park West, Tukwila, WA 98188-3326 | 815,888 | Rehabilitation and Expansion of a Building | Development of a facility at which the PHA will provide adult education early childhood education and job training.
King County Housing Authority, 600 Andover Park West, Tukwila, WA 98188-3326 | 1,218,678 | Construction of a New Facility | Development of a facility at which the PHA will provide adult education early childhood education and job training.
King County Housing Authority, 600 Andover Park West, Tukwila, WA 98188-3326 | 995,207 | Construction of a New Facility | Development of a facility at which the PHA will provide adult education early childhood education and job training.

[FR Doc. 2011-24838 Filed 9-26-11; 8:45 am]

BILLING CODE 4210-67-P